FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 20, 2008.

A. Federal Reserve Bank of Atlanta (Steve Foley, Vice President) 1000 Peachtree Street, N.E., Atlanta, Georgia 30309:

1. Mark Allen Conner, Canton, Georgia, to acquire additional voting shares of FirstCity Bancorp, Inc., and thereby indirectly acquire additional voting shares of FirstCity Bank, both of Stockbridge, Georgia.

2. James C. Jones, Waycross, Georgia; Patrick C. Jones and Carole C. Jones, both of Blackshear, Georgia; to retain voting shares of Jones Bancshares, LP, and thereby indirectly retain voting shares of Primesouth Bank, both of Blackshear, Georgia.

Board of Governors of the Federal Reserve System, September 30, 2008.
Robert deV. Frierson,
Deputy Secretary of the Board.

[FR Doc. E8-23383 Filed 10-2-08; 8:45 am]

BILLING CODE 6210-01-S